DEPARTMENT OF COMMERCE

National Oceanic and Atmospheric Administration

[I.D. 070903A]

Marine Mammals; File No. 1049-1718

AGENCY: National Marine Fisheries Service, National Oceanic and Atmospheric Administration (NOAA), Commerce.

ACTION: Receipt of application for new permit.

SUMMARY: Notice is hereby given that Kate M. Wynne, University of Alaska Fairbanks, School of Fisheries and Ocean Sciences, 118 Trident Way, Kodiak, Alaska 99615 has applied in due form for a permit to take humpback whales (Megaptera novaeangliae), killer whales (Orcinus orca), sperm whales (Physeter macrocephalus), fin whales (Balaenoptera physalis), sei whales (Balaenoptera borealis), minke whales (Balaenoptera acutorostrata), gray whales (Eschrichtius robustus), harbor porpoise (Phocoena phocoena), Dall's porpoise (Phocoenoides dalli), harbor seals (Phoca vitulina), Pacific white-sided dolphins (Lagenorhynchus obliquidens), Northern fur seals (Callorhinus ursinus), and Steller sea lions (Eumetopias jubatus) for the purposes of scientific research.

ADDRESSES: The permit application and related documents are available for review upon written request or by appointment in the following office(s):

Permits, Conservation and Education Division, Office of Protected Resources, NMFS, 1315 East-West Highway, Room 13705, Silver Spring, MD 20910, (301)713-2289; and

Alaska Region, NMFS, P.O. Box 21668, Juneau, AK 99802-1668, (907)586-7221.

FOR FURTHER INFORMATION CONTACT: Jill Lewandowski or Gene Nitta, (301) 713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant requests a five-year scientific research permit to: (1) develop long term sighting histories of individual humpback whales to assess stock structure, life history parameters, feeding behaviors, social behaviors of feeding populations, and population estimates; (2) collect and compare data on killer whale predation in southeastern Alaska, the Gulf of Alaska and Aleutian Islands; and (3) collect data to assess the distribution, abundance, and foraging ecology of fin whales in the Gulf of Alaska. All research will take place in Alaskan waters.

Specifically, the applicant is requesting takes by close approach for photo-identification, behavioral observation, passive acoustic recording, biopsy sampling and incidental harassment. In addition, the applicant is requesting authorization to collect and/or export dead parts from the following prey species during killer whale predation studies: humpback, gray, minke, sei, fin and sperm whales; harbor and Dall's porpoise; Pacific white-sided dolphins; Northern fur and harbor seals; and Steller sea lions.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: July 14, 2003.
Stephen L. Leathery,
Chief, Permits, Conservation and Education Division, Office of Protected Resources, National Marine Fisheries Service.

[FR Doc. 03-18340 Filed 7-17-03; 8:45 am]

BILLING CODE 3510-22-S